DEPARTMENT OF DEFENSE

Office of the Secretary

Meeting of the Department of Defense Military Family Readiness Council (MFRC)

AGENCY: Office of the Under Secretary of Defense for Personnel and Readiness, DoD.

ACTION: Notice.

SUMMARY: Pursuant to section 10(a), Public Law 92-463, as amended, notice is hereby given of a forthcoming meeting of the Department of Defense Military Family Readiness Council (MFRC). The purpose of the meeting is to review the Council's Charter, review the status of warrior care, and address selected concerns of military family organizations. The meeting is open to the public, subject to the availability of space.

DATES: The meeting will be held October 1, 2009, from 2 to 4 p.m.

Persons desiring to attend may contact Mr. Michael Osborn (see FOR FURTHER INFORMATION CONTACT) no later than 5 p.m. on Monday, September 28, 2009, to arrange for parking and escort into the conference room inside the Pentagon.

Persons wishing to submit a written statement must notify Mr. Michael Osborn no later than 5 p.m., Monday, September 28, 2009.

ADDRESSES: The meeting will be held at the Pentagon Conference Center B6 (escorts will be provided from Pentagon Conference Center entrance).

FOR FURTHER INFORMATION CONTACT: Mr. Michael Osborn, Office of the Deputy Under Secretary (Military Community & Family Policy), 4000 Defense Pentagon, Room 5A726, Washington, DC 20301-4000. Telephone (703) 588-0099 and/or e-mail: george.osborn.ctr@osd.mil.

SUPPLEMENTARY INFORMATION:

Meeting Agenda

The following topics are on the meeting agenda, although the exact order may vary:

Welcome and Administrative Remarks.

Review of the Council's Charter.

Discussion of the DoD Report on Military Family Readiness Policy and Plans.

Comments from Family Organizations on Top Programs and Top Concerns.

Comments from Military Services on Top Programs and Top Concerns.

Recap of Top Programs and Concerns for Inclusion in the Council's Annual Report.

Intentions for the Second 2009 Meeting.

Closing Remarks.

The meeting is open to the public, subject to the availability of space.

Written Statements

Interested persons may submit a written statement for consideration by the Council. Persons desiring to submit a written statement to the Council must notify Mr. Michael Osborn (see FOR FURTHER INFORMATION CONTACT) no later than 5 p.m., on Monday, September 28, 2009.

Dated: September 10, 2009.
Mitchell S. Bryman,
Alternate OSD Federal Register Liaison Officer, Department of Defense.

[FR Doc. E9-22138 Filed 9-14-09; 8:45 am]

BILLING CODE 5001-06-P